DEPARTMENT OF TRANSPORTATION

Federal Aviation Administration

14 CFR Part 39

[Docket No. 2000-NE-58-AD; Amendment 39-12907; AD 2002-21-01]

RIN 2120-AA64

Airworthiness Directives; Britax Sell GmbH & Co. OHG Water Boilers, Coffee Makers, and Beverage Makers

AGENCY: Federal Aviation Administration, DOT.

ACTION: Final rule.

SUMMARY: This amendment supersedes an existing airworthiness directive (AD), that is applicable to Britax Sell GmbH & Co. OHG water boilers, coffee makers, and beverage makers. That AD currently requires inspecting the wiring for indications of overheating or electrical arcing, and if indications are found, replacing the wiring. This amendment requires replacing the wiring on those water boilers, coffee makers, and beverage makers whether or not they show indications of overheating or electrical arcing. This amendment is prompted by revisions to the manufacturer's service bulletin that were not incorporated in the proposed rule. The actions specified by this AD are intended to prevent a fire in the galley compartment due to inadequate crimping of the electrical terminal contact pins, which could result in smoke in the cockpit and cabin and loss of control of the airplane.

DATES: Effective November 27, 2002. The incorporation by reference of certain publications listed in the regulations is approved by the Director of the Federal Register as of November 27, 2002. The incorporation by reference of certain other publications, as listed in the regulations, was approved previously by the Director of the Federal Register as of June 15, 2002 (66 FR 29467; May 31, 2001).

ADDRESSES: The service information referenced in this AD may be obtained from Britax Sell GmbH & Co. OHG, MPL Mr. H.D. Poggensee, P.O. Box 1161, 35721 Herborn Germany, telephone international code 49-2772-707-0; fax international code 49-2772-707-141. This information may be examined, by appointment, at the Federal Aviation Administration (FAA), New England Region, Office of the Regional Counsel, 12 New England Executive Park, Burlington, MA; or at the Office of the Federal Register, 800 North Capitol Street., NW, suite 700, Washington, DC.

FOR FURTHER INFORMATION CONTACT: Terry Fahr, Aerospace Engineer, Boston Certification Office, FAA, Engine and Propeller Directorate, 12 New England Executive Park, Burlington, MA 01803-5299; telephone (781) 238-7155; fax (781) 238-7170.

SUPPLEMENTARY INFORMATION: A proposal to amend part 39 of the Federal Aviation Regulations (14 CFR part 39) by superseding AD 2001-10-13, Amendment 39-12239 (66 FR 29467, May 31, 2001), which is applicable to Britax Sell GmbH & Co. OHG water boilers, coffee makers, and beverage makers was published in the Federal Register on June 7, 2002 (67 FR 39311). That action proposed to require replacing the wiring on those water boilers, coffee makers, and beverage makers whether or not they show indications of overheating or electrical arcing in accordance with Britax Sell GmbH & Co. OHG service bulletins (SB's) No. E33-4-010SB, Revision 1, dated August 1, 2001; No. E33-4-011SB, Revision 2, dated January 31, 2001; E33-4-012SB, Revision 1, dated November 20, 2000; and E33-4-015SB, Revision 1, dated November 15, 2000.

Interested persons have been afforded an opportunity to participate in the making of this amendment. Due consideration has been given to the comments received.

Requested Change to the Unsafe Condition Statement

One commenter, the manufacturer, considers the unsafe condition statement “which could result in smoke in the cockpit and cabin and loss of control of the airplane” to be exaggerated and not applicable.

The FAA does not agree. The commenter states that the unsafe condition can result in smoke in the cabin under certain circumstances. The FAA considers any smoke or possibility of fire in the cabin or cockpit to be a very serious condition. Therefore, no change will be made to the unsafe condition statement in the final rule.

Question About the Need To Issue This Final Rule

The same commenter questions the need to issue the rule again. The commenter feels that, since approximately one and one-half years have passed since the final rule was issued, all units should be in compliance.

The FAA partially agrees. The FAA agrees that, based on the compliance times specified in AD 2001-10-13, all units that were specified by serial number (SN) in AD 2001-10-13 should be in compliance. However, since that rule was issued, a service bulletin revision that was not incorporated by reference in the NPRM has been incorporated into the amendment and that revision expands the SN range of the water boilers in Table 1. Since the service bulletins are not mandatory to U.S. operators without an AD, the FAA must publish this rule to ensure that the unsafe condition has been eliminated from all affected U.S. registered airplanes.

Beverage Maker Corrections

The same commenter states that in Table 1, (4) Beverage Maker, Appliance Part Number (ii) 64771-001-003, the SN's are incorrectly called out as follows: * * *, 00-04-0042 thru 00-04-0042, * * *.

The FAA agrees. That SN series is corrected in this final rule to read * * *, 00-04-0040 thru 00-04-0042, * * *.

Economic Analysis Correction

The same commenter states that the number of work hours to perform the replacement of the wires is 1 work hour, not 10 work hours as stated in the proposal.

The FAA agrees. The FAA has adjusted the economic analysis in this final rule.

Water Boiler Serial Numbers Expanded

Service bulletin (SB) No. E33-4-010SB, dated October 20, 2000, specified in the NPRM, is not the latest revision. SB No. E33-4-010SB, Revision 1, dated August 1, 2001, expands the SN range listed in Table 1, (3). Table 1 (3) and reference to the revised SB have been changed.

Additional Changes to Table 1 of This AD

Additionally, the FAA has corrected the coffee maker appliance part number in Table 1 that was listed incorrectly in SB E33-4-012SB, Revision 1, dated November 20, 2000, from 64753-201-003 to 64763-201-003.

After careful review of the available data, including the comments noted above, the FAA has determined that air safety and the public interest require the adoption of the rule with the changes described previously. The FAA has determined that these changes will neither increase the economic burden on any operator nor increase the scope of the AD.

Economic Analysis

The FAA estimates that 175 products installed on airplanes of U.S. registry would be affected by this AD. The FAA has been notified that the manufacturer may provide the wiring kit free of charge. The FAA estimates that it would take approximately 1.0 work hour per product to do the wire replacement, that there are five products per airplane, that the required parts will cost approximately $20 per product, and that the average labor rate is $60 per work hour. Based on these figures, the total cost of the AD to U.S. operators is estimated to be $14,000.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-12239 (66 FR 29467, May 31, 2001) and by adding a new airworthiness directive, Amendment 39-12907, to read as follows:

2002-21-01 Britax Sell GmbH & Co OHG: Amendment 39-12907. Docket No. 2000-NE-58-AD. Supersedes AD 2001-10-13, Amendment 39-12239.

Applicability: This airworthiness directive (AD) is applicable to Britax Sell GmbH & Co. OHG water boilers, coffee makers, and beverage makers, listed by part number (P/N) and serial number (SN) in Table 1 of this AD. These products are installed on, but not limited to, Airbus Industrie A319, A320, A330, AVRO RJ, Bombardier DHC-8-400, and Boeing Company 717, 737, 747, 757, 767, 777 airplanes.

Note 1: This AD applies to each product identified in the preceding applicability provision, regardless of whether it has been modified, altered, or repaired in the area subject to the requirements of this AD. For products that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Compliance with this AD is required as indicated, unless already done.

To prevent a fire in the galley compartment due to inadequate crimping of the electrical terminal contact pins, which could result in smoke in the cockpit and cabin and loss of control of the airplane, do the following:

(a) Replace wiring on temperature limiters of remote water boilers, coffee makers, water boilers, and beverage makers that are listed by P/N in Table 1 of this AD during the next repair, maintenance, or descaling of the product, during the next airplane check that allows for replacing the wiring, or within one calendar year after the effective date of this AD, whichever occurs earlier, in accordance with the applicable service bulletin (SB) specified for the appliance in Table 1 as follows:

Table 1.—Appliance P/N and Applicable SB for Wire Replacement
Appliance | Appliance P/N | SN | Tank assembly P/N | Replace wiring in accordance with SB
(1) Remote Water Boiler | 62204-001-029, 62204-001-031, 62204-001-037, 62204-001-043, 62204-001-047, and 62204-001-049 | 00-04-0001 thru 00-07-0033 and 00-07-0038 | 62203-001-005 6603-001-007 | E33-4-007SB. Revision 2, dated December 4, 2000, Accomplishment Instructions 3.A through 3.0.
(2) Coffee Maker | (i) 64755 | 00-05-0001 and 00-09-0003 | 64761-025-001 | E33-4-009SB, dated October 24, 2000, Accomplish Instructions 3.A. through 3.J.
| (ii) 64753-001-003 | 00-01-0001 thru 00-09-0079, 00-09-0101 | 64761-025-001 | E33-4-011SB, Revision 2, dated January 31, 2001, Accomplish Instructions 3.A. through 3.J.
| (iii) 64763-201-003 | 00-05-0001, 00-05-0002, 00-07-0003, and 00-07-0004 | 64761-025-001 | E33-4-012SB, Revision 1, dated November 20, 2000, Accomplish Instructions 3.A. through 3.J.
| (iv) 64769-001-005 and 64769-001-007 | 00-04-0001 thru 00-09-0033 | 64769-025-003 | E33-4-013SB, dated October 23, 2000, Accomplish Instructions 3.A. through 3.Q.
| (v) 64790-1 | 00-08-0001 thru 00-08-0003 | 64790-393-101 | E33-4-015SB. Revision 1, dated November 15, 2000. Accomplish Instructions 3.A. through 3.L.
(3) Water Boiler. | 62197-001-001 | 00-04-0001 thru 00-09-0052 and 00-09-0055 | 62197-015-001 | E33-4-010SB. Revision 1, dated August 1, 2001. Accomplish Instructions 3.A. through 3.S
(4) Beverage Maker | (i) 64771-001-001 | 00-04-0013 thru 00-04-0039, 00-04-0043 thru 00-08-0302, 00-08-0307 thru 00-08-0346, and 00-09-0368 thru 00-09-0371 | 64771-025-005 | E33-4-014SB. Revision 1, dated November 6, 2000, Accomplishment Instructions 3.A. through 3.J.
| (ii) 64771-001-003 | 00-02-0001 thru 00-03-0005, 00-04-0007 thru 00-04-0012, 00-04-0040 thru 00-04-0042, 00-04-0053 thru 00-04-0057, 00-05-0087 thru 00-05-0094, 00-07-0135 thru 00-07-0138, 00-08-0303 thru 00-08-306, 00-08-0347 thru 00-08-0354, and 00-09-0365 thru 00-09-0367 | 64771-025-001 | E33-4-016SB. Revision 1, dated November 6, 2000. Accomplishment Instructions 3.A. through 3.J.

Alternative Methods of Compliance

(b) An alternative method of compliance or adjustment of the compliance time that provides an acceptable level of safety may be used if approved by the Manager, Boston Aircraft Certification Office (ACO). Operators must submit their request through an appropriate FAA Principal Maintenance Inspector, who may add comments and then send it to the Manager, Boston ACO.

Note 2: Information concerning the existence of approved alternative methods of compliance with this airworthiness directive, if any, may be obtained from the Boston ACO.

Special Flight Permits

(c) Special flight permits may be issued in accordance with §§ 21.197 and 21.199 of the Federal Aviation Regulations (14 CFR 21.197 and 21.199) to operate the aircraft to a location where the requirements of this AD can be done.

Documents That Have Been Incorporated By Reference

(d) The actions must be done in accordance with the following Britax Sell GmbH & Co. OHG service bulletins (SB's):

Document No. | Pages | Revision | Date
E33-4-007SB Total pages: 7 | All | 2 | December 4, 2000.
E33-4-009SB Total pages: 5 | All | Original | October 24, 2000.
E33-4-010SB Total Pages: 5 | All | 1 | August 1, 2001.
E33-4-011SB Total pages: 5 | All | 2 | January 31, 2001.
E33-4-012SB Total pages: 5 | All | 1 | November 20, 2000.
E33-4-013SB Total pages: 5 | All | Original | October 23, 2000.
E33-4-014SB Total pages: 5 | All | 1 | November 6, 2000.
E33-4-015SB Total pages: 5 | All | 1 | November 15, 2000.
E33-4-016SB Total pages: 5 | All | 1 | November 6, 2000.

The incorporation by reference of SB's E33-4-007SB, Revision 2, dated December 4, 2000; E33-4-009SB, dated October 24, 2000; E33-4-013SB, dated October 23, 2000; E33-4-014SB, Revision 1, dated November 6, 2000; and E33-4-016SB, Revision 1, dated November 6, 2000 was approved by the Director of the Federal Register on June 15, 2001 (66 FR 29467; May 31, 2001). The incorporation by reference of E33-4-010SB, Revision 1, dated August 1, 2001; E33-4-011SB, Revision 2, January 31, 2001; E33-4-012SB, Revision 1, dated November 20, 2000; and E33-4-015SB, Revision 1, dated November 15, 2000 was approved by the Director of the Federal Register on November 27, 2002, in accordance with 5 U.S.C. 552(a) and 1 CFR part 51. Copies may be obtained from Britax Sell GmbH & Co. OHG, MPL Mr. H.D. Poggensee, P.O. Box 1161, 35721 Herborn Germany, telephone international code 49-2772-707-0; fax international code 49-2772-707-141. Copies may be inspected at the FAA, New England Region, Office of the Regional Counsel, 12 New England Executive Park, Burlington, MA; or at the Office of the Federal Register, 800 North Capitol Street, NW., suite 700, Washington, DC.

Note 3: The subject of this AD is addressed in LBA airworthiness directive 2000-379, dated November 13, 2000.

Effective Date

(e) This amendment becomes effective on November 27, 2002.

Issued in Burlington, Massachusetts, on October 7, 2002.
Jay J. Pardee,
Manager, Engine and Propeller Directorate, Aircraft Certification Service.

[FR Doc. 02-26207 Filed 10-22-02; 8:45 am]

BILLING CODE 4910-13-P